DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 2, 2009.

Interested persons are invited to submit written comments regarding the subject matter of the investigations to the Director, Division of Trade Adjustment Assistance, at the address shown below, not later than October 2, 2009.

The petitions filed in this case are available for inspection at the Division of Trade Adjustment Assistance, Employment and Training Administration, U.S. Department of Labor, Room N-5428, 200 Constitution Avenue, NW., Washington, DC 20210.

Signed at Washington, DC, this 31st day of August 2009.
Linda G. Poole,
Certifying Officer, Division of Trade Adjustment Assistance.

Appendix
[TAA petitions instituted between 8/3/09 and 8/7/09]
TA-W | Subject firm (petitioners) | Location | Date of institution | Date of petition
71885 | Clarcor Air Filtration Products (Rep) | Rockford, IL | 08/03/09 | 07/28/09
71886 | Property Insight (Wkrs) | Towson, MD | 08/03/09 | 07/27/09
71887 | Carlonia Specialty Tools (Wkrs) | Connelly Springs, NC | 08/03/09 | 07/27/09
71888 | Duffy Tool and Stamping (Comp) | Muncie, IN | 08/03/09 | 07/29/09
71889 | Marsh & McLennon Companies, Inc. (Wkrs) | Chicago, IL | 08/03/09 | 07/30/09
71890 | Camel MFG (Comp) | Jamestown, TN | 08/03/09 | 07/29/09
71891 | Schindler Elevator Corp (Comp) | Morristown, NJ | 08/03/09 | 07/22/09
71892 | DSFI (State) | Honesdale, PA | 08/03/09 | 07/16/09
71893 | Open Solutions, Inc. (Wkrs) | Murrieta, CA | 08/03/09 | 07/03/09
71894 | Kaiser Permanente (Wkrs) | Corona, CA | 08/03/09 | 07/23/09
71895 | Warn Industries (Wkrs) | Clackamas, OR | 08/03/09 | 07/30/09
71896 | Skyjack Manufacturing (Wkrs) | Emmetsburg, IA | 08/03/09 | 07/31/09
71897 | Polymer Group, Inc. (State) | North Little Rock, AR | 08/03/09 | 07/31/09
71898 | Kaiser Permanente (Wkrs) | Silver Spring, MD | 08/03/09 | 07/31/09
71899 | Warner Music Group (Wkrs) | Burbank, CA | 08/03/09 | 07/31/09
71900 | MacGregor Golf (Wkrs) | Albany, GA | 08/03/09 | 07/31/09
71901 | Neff Motivation, Inc. (Comp) | Greenville, OH | 08/03/09 | 07/31/09
71902 | Defiance Metal Products (Comp) | Tyler, TX | 08/03/09 | 07/23/09
71903 | JP Morgan Chase (Wkrs) | Chicago, IL | 08/03/09 | 07/29/09
71904 | Lu_Mac Inc. (Comp) | Ford City, PA | 08/04/09 | 07/30/09
71905 | Accenture LLP (Wkrs) | Dayton, OH | 08/04/09 | 07/30/09
71906 | Flowserve of Sulphur Springs TX (Wkrs) | Sulphur Springs, TX | 08/04/09 | 07/27/09
71907 | Allstate Insurance Co (State) | Diamond Bar, CA | 08/04/09 | 08/03/09
71908 | Kimball Office Salem (Wkrs) | Salem, IN | 08/04/09 | 07/30/09
71909 | Carolina Specialty Tools (Wkrs) | Connelly Springs, NC | 08/04/09 | 07/27/09
71910 | Pacific Steel Casting (State) | Berkeley, CA | 08/04/09 | 07/24/09
71911 | Finetex Technology (State) | Hudson, NH | 08/04/09 | 08/03/09
71912 | Philips Products, Inc. (Wkrs) | Clarksville, TX | 08/04/09 | 07/30/09
71913 | Siemens (Union) | Norwood, OH | 08/04/09 | 08/03/09
71914 | Maersk Line (Wkrs) | Charlotte, NC | 08/04/09 | 08/03/09
71915 | Plum Creek (Comp) | Sealey Lake, MT | 08/04/09 | 07/06/09
71916 | Cymer Corp. (Wkrs) | San Diego, CA | 08/04/09 | 07/15/09
71917 | Brown Shoe (Union) | Fredericktown, MO | 08/04/09 | 07/27/09
71918 | Eberty Originals Ltd. (State) | Newton, NJ | 08/04/09 | 05/03/09
71919 | Denso Mfg. of Michigan (Wkrs) | Battle Creek, MI | 08/05/09 | 08/03/09
71920 | Weyerhaeuser Albany I-level EWP (State) | Albany, OR | 08/05/09 | 08/03/09
71921 | Friedman Pipe and Steel Company (Wkrs) | Lonestar, TX | 08/05/09 | 08/04/09
71922 | Maclean Flowform, L.L.C. (Comp) | Toledo, OH | 08/05/09 | 08/04/09
71923 | Decker Logging, Inc. (Wkrs) | Libby, MT | 08/05/09 | 07/19/09
71924 | Allstate Insurance (Wkrs) | South Barrington, IL | 08/05/09 | 07/31/09
71925 | Eastman Kodak Company (Comp) | Rochester, NY | 08/05/09 | 07/08/09
71926 | Honeywell International (Comp) | Fostoria, OH | 08/05/09 | 08/03/09
71927 | Irwin Industrial Tool (State) | DeWitt, NE | 08/05/09 | 08/04/09
71928 | Broward Casting Foundry (Wkrs) | Ft. Lauderdale, FL | 08/05/09 | 08/04/09
71929 | HiRel Systems (Comp) | Hillsboro, OR | 08/05/09 | 08/03/09
71930 | International Automotive Components (Wkrs) | Old Fort, NC | 08/06/09 | 08/04/09
71931 | AMETEK (Comp) | Grand Junction, CO | 08/06/09 | 08/05/09
71932 | Greenstar NA (Comp) | Pittsburgh, PA | 08/06/09 | 07/20/09
71933 | TRW Automotive (Wkrs) | Washington TWP, MI | 08/06/09 | 08/02/09
71934 | Clarcor Air Filtration Products (Comp) | Campbellsville, KY | 08/06/09 | 08/05/09
71935 | Bank of America (Wkrs) | Concord, CA | 08/06/09 | 08/03/09
71936 | Seaboard Folding Box Company (Wkrs) | Providence, RI | 08/06/09 | 07/20/09
71937 | Huf North America (Wkrs) | Greeneville, TN | 08/06/09 | 08/05/09
71938 | GPSG (State) | Raritan, NJ | 08/06/09 | 08/05/09
71939 | City of Mansfield, Division of Fire (Union) | Mansfield, OH | 08/06/09 | 07/18/09
71940 | Con Agra Foods (Wkrs) | San Jose, CA | 08/07/09 | 08/07/09
71941 | Portola Tech International (Comp) | Woonsocket, RI | 08/07/09 | 08/05/09
71941A | Employment 2000 Corp. (Comp) | Woonsocket, RI | 08/07/09 | 08/05/09
71942 | Alfmeier Corporation (Comp) | Greenville, SC | 08/07/09 | 08/06/09
71943 | 3M Company (Wkrs) | Solon, OH | 08/07/09 | 08/06/09
71944 | St. Mary's Pressed Metals (Comp) | Ridgway, PA | 08/07/09 | 08/03/09
71945 | Rainbow Play Systems Inc (Comp) | Albert Lea, MN | 08/07/09 | 08/06/09
71946 | Loew-Cornell, Inc. (Comp) | Englewood Cliffs, NJ | 08/07/09 | 08/06/09
71947 | Luvata Franklin, Inc (Comp) | Franklin, KY | 08/07/09 | 08/05/09
71948 | Solutions Manufacturing, Inc. (State) | Rockledge, FL | 08/07/09 | 08/06/09
71949 | Oberg Industries (Wkrs) | Freeport, PA | 08/07/09 | 08/06/09
71950 | Sierra Pacific Industries, Camio Division (Union) | Camino, CA | 08/07/09 | 07/31/09
71951 | Mack Trucks (Wkrs) | Macungrie, PA | 08/07/09 | 08/07/09
71952 | GMVM Orion Assembly (Union) | Lake Orion, MI | 08/07/09 | 08/06/09
71953 | Vanguard National Trailer Corp. (Wkrs) | Monon, IN | 08/07/09 | 07/30/09
71954 | National Envelope Corporation (NY) | Long Island, NY | 08/07/09 | 07/29/09

[FR Doc. E9-22756 Filed 9-21-09; 8:45 am]

BILLING CODE 4510-FN-P